SMALL BUSINESS ADMINISTRATION

Data Collection Available for Public Comments and Recommendations

ACTION: Notice and request for comments.

SUMMARY: In accordance with the Paperwork Reduction Act of 1995, this notice announces the Small Business Administration's intentions to request approval on a new and/or currently approved information collection.

DATES: Submit comments on or before August 25, 2008.

ADDRESSES: Send all comments regarding whether this information collection is necessary for the proper performance of the function of the agency, whether the burden estimates are accurate, and if there are ways to minimize the estimated burden and enhance the quality of the collection, to Lisa Lopez-Suarez, Senior Advisor, Office of Disaster, Small Business Administration, 409 3rd Street SW., 6th floor, Wash., DC 20416.

FOR FURTHER INFORMATION CONTACT: Lisa Lopez-Suarez, Senior Advisor, Office of Disaster, 202-619-0458, lisa.lopez.suarez@sba.gov, Curtis B. Rich, Management Analyst, 202-205-7030, curtis.rich@sba.gov.

SUPPLEMENTARY INFORMATION: The Small Business Administration is authorized to make loans to victims of declared Disasters for the purpose of restoring their damaged property to, as near as possible, pre-disaster conditions. SBA's Office of Disaster Assistance provides customer service to individuals and businesses on the phone and via e-mail through its Disaster Assistance Customer Service Center (DACSC) and in-person through its Field Operations Centers (FOC).

Title: “Customer Satisfaction Survey.”

Description of Respondents: A team of Quality Assistance staff at the DACSC would conduct a brief telephone survey of a representative sample of customers to measure their satisfaction with the service received from the DACSC and FOC.

Form Numbers: N/A.

Annual Responses: 975.

Annual Burden: 1,950.

Jacqueline White,
Chief, Administrative Information Branch.

[FR Doc. E8-14336 Filed 6-24-08; 8:45 am]

BILLING CODE 8025-01-P